DEPARTMENT OF THE INTERIOR

National Park Service

Winter Use Plan, Final Supplemental Environmental Impact Statement for the Yellowstone and Grand Teton National Parks and the John D. Rockefeller, Jr., Memorial Parkway, Wyoming and Montana

AGENCY: National Park Service, Department of the Interior.

ACTION: Notice of availability of a Final Supplemental Environmental Impact Statement for the Winter Use Plan for the Yellowstone and Grand Teton National Parks and the John D. Rockefeller, Jr., Memorial Parkway.

SUMMARY: Pursuant to section 102(c) of the National Environmental Policy Act of 1969, the National Park Service announces the availability of Final Supplemental Environmental Impact Statement for Yellowstone and Grand Teton National Parks and the John D. Rockefeller, Jr., Memorial Parkway, Wyoming and Montana. The purpose for preparing the Plan/SEIS is to further the purposes of NEPA by soliciting more public comment and to consider additional information on new snowmobile technology not available at the time of the earlier decision. It analyzes 5 winter use management alternatives for the parks and evaluates the environmental consequences of the alternatives on wildlife, air quality, natural quiet, socioeconomics, and visitor experience.

Under alternative 1a-No Action, use and management practices in the parks and Parkway as decided by the November 22, 2000 record of decision for the Winter Use Plan, Final Environmental Impact Statement for the Yellowstone and Grand Teton National Parks and John D. Rockefeller, Jr., Memorial Parkway would continue. The decision eliminated recreational snowmobile and snowplane use from the parks and Parkway by the winter of 2003-2004. Oversnow motorized access would be provided by means of mass transit snowcoaches. Alternative 1b is essentially the same as alternative 1a with the exception that an additional year would be allowed for the phasing in of snowcoach only travel. Alternative 2 allows for the use of snowmobiles provided that EPA's proposed 2010 emission standards are met and sound levels do not exceed 78 decibels for publicly owned machines. It calls for a daily cap on numbers of snowmobiles and for increased NPS management of winter use. Alternative 3 provides for guided use of snowmobiles provided that best available technology standards for both emissions and noise levels are met for all machines. Alternative 4, the preferred alternative, allows for the use of guided snowmobiles and snowcoaches that meet best available technology standards for noise and air emissions. All alternatives emphasize an adaptive management strategy under which the number of snowmobiles allowed in the parks may be adjusted based on the results of monitoring and carrying capacity studies.

DATES: The National Park Service will execute a Record of Decision (ROD) no sooner than 30 days following publication by the Environmental Protection Agency of the notice of availability of the Final Environmental Impact Statement.

ADDRESSES: The FSEIS Winter Use Plans will be available on February 19, 2003 in the offices of the Yellowstone and Grand Teton Superintendents and on the Internet at http://www.nps.gov/grte/winteruse/winteruse.htm. Persons wishing to receive a copy of the document may contact the Yellowstone NP Planning Office: PO Box 168, Yellowstone, WY 82190.

FOR FURTHER INFORMATION CONTACT: Suzanne Lewis, Superintendent, Yellowstone National Park, (307) 344-2005.

Dated: January 14, 2003.
Karen P. Wade,
Director, Intermountain Region, National Park Service.

[FR Doc. 03-4148 Filed 2-21-03; 8:45 am]

BILLING CODE 4310-70-P